DEPARTMENT OF THE INTERIOR

National Park Service

[NPS-WASO-NRNHL-DTS#-39729; PPWOCRADI0, PCU00RP14.R50000]

National Register of Historic Places; Notification of Pending Nominations and Related Actions

AGENCY: National Park Service, Interior.

ACTION: Notice.

SUMMARY: The National Park Service is soliciting electronic comments on the significance of properties nominated before March 8, 2025, for listing or related actions in the National Register of Historic Places.

DATES: Comments should be submitted electronically by April 4, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before March 8, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

ILLINOIS

Cook County

Our Lady of Lourdes Parish, 4208 West 15th Street, Chicago, SG100011690

Eli and Jeanne Lipman House, 2633 Kenilworth Avenue, Wilmette, SG100011691

Marshall Field and Company Store (Boundary Increase), 1136-1150 Lake Street, Oak Park, BC100011693

Du Page County

Theosophical Society in America Headquarters, 1926 North Main Street, Wheaton, SG100011694

KANSAS

Nemaha County

Waggoner, John, House, 2441 204th Road, Sabetha, SG100011682

Russell County

Pospishil Building (Post Rock Limestone Properties in Kansas, 1870-1948 MPS), 101-103 Main Street, Luray, MP100011683

Saline County

Paul Laurence Dunbar School (Public Schools of Kansas MPS), 509 East Elm Street, Salina, MP100011703

Sedgwick County

Price Elementary School (Public Schools of Kansas MPS), 6123 E 11th Street North, Wichita, MP100011705

KENTUCKY

Grant County

Independent Order of Odd Fellows Hall, 113 N Main Street, Williamstown, SG100011687

Hart County

Bonnieville Elementary School (Historic Public Schools of Kentucky MPS), 7874 North Dixie Highway, Bonnieville, MP100011664

Cub Run Elementary School (Historic Public Schools of Kentucky MPS), 170 E Gap Hill Rd., Cub Run, MP100011665

Hopkins County

Dawson Springs Historic District (Boundary Increase II) (Hopkins County MPS), Generally bounded on the north by Keigan St., on the south by Water St. and Arcadia Avenue, the east by Hunter St., and west by Sycamore St., Dawson Springs, BC100011668

Jefferson County

Keisker Building, 315 Muhammad Ali Blvd., Louisville, SG100011677

Shawnee Neighborhood Historic District, Bounded by the Ohio River to the north and west, I-264 to the East, and Broadway to the south, Louisville, SG100011688

Kenton County

Overman & Schrader Cordage Company, 1564 Banklick Street, Covington, SG100011678

Letcher County

Dunham High School, #4 Hollow off Hwy. 805, Jenkins, SG100011679

Madison County

Newby Country Store, 435 Newby Road, Richmond, SG100011680

Pulaski County

Eubank Elementary School (Historic Public Schools of Kentucky MPS), 285 West Kentucky Highway 70, Eubank, MP100011666

Nancy Elementary School (Historic Public Schools of Kentucky MPS), 240 Kentucky Highway 196, Nancy, MP100011667

Shopville Elementary School (Historic Public Schools of Kentucky MPS), 10 Shopville Road, Somerset, MP100011689

LOUISIANA

Washington Parish, Jones Creek Rosenwald School (Rosenwald Schools in Louisiana, 1917-1932MPS), 64333 Parish Road 420, Varmado, MP100010511

NORTH CAROLINA

Burke County

Pineburr Hosiery Mill, 408 Pineburr Avenue SE, Valdese, SG100011657

Chatham County

Bynum Historic District, Bynum Church Road, Bynum Hill, Bynum Road, Charlie Fields Road, Durham Eubanks Road, Roy Hatley Road, Wheeler Road, Williams Pond Road, Pittsboro vicinity, SG100011658

Dare County

Herbert and Ann Creef House, 301 Budleigh Street, Manteo, SG100011674

Edgecombe County

F.D. Wharton House, 521 East Saint James Street, Tarboro, SG100011659

Nash County

Sunset Avenue Public Works Historic District, 1590, 1609, 1619, 1660, and 1701 Sunset Avenue, Rocky Mount, SG100011660

Rowan County

Ramsay, Sr., John E. and Jean Anne Ferrier, House, 16 Pine Tree Road, Salisbury, SG100011661

Stanly County

Gladstone Academy, 48210 Wesley Chapel Road, Misenheimer, SG100011662

PENNSYLVANIA

Allegheny County

Mount Saint Mary Convent and Saint Benedict Academy Historic District, 4530 Perrysville Avenue, Pittsburgh, SG100011704

Lackawanna County

St. Luke's Episcopal Church & Throop Memorial Parish House, 232 Wyoming Avenue, Scranton, SG100011675

Philadelphia County

Hahnemann Medical College & Hospital Complex Historic District, 225-231 N 15th Street, 216-248 N Broad Street, Philadelphia, SG100011684

Interstate Storage Warehouse, 3935-61 Germantown Avenue, Philadelphia, SG100011702

RHODE ISLAND

Providence County

Minkins, John Carter, House, 345 Glenwood Avenue, Pawtucket, SG100011656

VIRGINIA

Middlesex County

St. Clare Walker School, 2911 General Puller Highway (SR 33), Saluda vicinity, SG100011697

Norfolk INDEPENDENT CITY

Berkley North Historic District (Boundary Decrease), Bellamy Avenue, Hough Avenue, E Indian River Road, Hardy Avenue, Poplar Avenue, Patrick Street, State Street, S Main Street, Dinwiddie Street, Stafford Street, Fauquier Street, Norfolk (Independent City), BC100011698

Powhatan County

Belmead (Boundary Increase), 5004 Cartersville Road, Powhatan vicinity, BC100011700

An additional documentation has been received for the following resource(s):

ILLINOIS

Cook County

Marshall Field and Company Store (Additional Documentation), 1136-1150 W Lake Street, Oak Park, AD87002510

KENTUCKY

Franklin County

Julian Farm (Additional Documentation), 1915 Louisville Road, Bridgeport vicinity, AD88000670

Hopkins County

Dawson Springs Historic District (Additional Documentation), (Hopkins County MPS), 100 blk. S Main St., Dawson Springs, AD88002710

Jefferson County

Hope Worsted Mills (Additional Documentation), (Textile Mills of Louisville TR), 942 E Kentucky St., Louisville, AD95001543

VIRGINIA

Norfolk INDEPENDENT CITY

Berkley North Historic District (Additional Documentation), Bellamy Avenue, Hough Avenue, E Indian River Road, Hardy Avenue, Poplar Avenue, Patrick Street, State Street, S Main Street, Dinwiddie Street, Stafford Street, Fauquier Street, Norfolk (Independent City), AD00001440

Powhatan County

Belmead (Additional Documentation), 5004 Cartersville Road, Powhatan vicinity, AD69000270

WASHINGTON

Spokane County

Fort George Wright Historic District-Fort George Wright Cemetery (Additional Documentation), North Government Way & N Houston Rd., along the Centennial Trail, Spokane vicinity, AD76001918

Nomination(s) submitted by Federal Preservation Officers:

The State Historic Preservation Officer reviewed the following nomination(s) and responded to the Federal Preservation Officer within 45 days of receipt of the nomination(s) and supports listing the properties in the National Register of Historic Places.

OREGON

Polk County

Salem Substation, Bonneville Power Administration, (Bonneville Power Administration Pacific Northwest Transmission System MPS), 3105 Dallas Highway (OR 22), Salem, MP100011672

(Authority: 36 CFR 60.13)

Sherry A. Frear,
Chief, National Register of Historic Places/National Historic Landmarks Program.

[FR Doc. 2025-04747 Filed 3-19-25; 8:45 am]

BILLING CODE 4312-52-P